DEPARTMENT OF DEFENSE

Department of the Army

[Docket ID: USA-2016-HQ-0020]

Privacy Act of 1974; System of Records

AGENCY: Department of the Army, DoD.

ACTION: Notice to alter a System of Records.

SUMMARY: The Department of the Army proposes to alter a system of records notice A0381-20 DAMI, entitled “Badge and Credential Files” in its existing inventory of records systems subject to the Privacy Act of 1974, as amended. This system is used to maintain control and accountability over Counterintelligence Badge and Credentials or Representative Credentials.

DATES: Comments will be accepted on or before July 13, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Department of the Army's notices for systems of records subject to the Privacy Act of 1974 (5 U.S.C. 552a), as amended, have been published in the Federal Register and are available from the address in FOR FURTHER INFORMATION CONTACT or from the Defense Privacy, Civil Liberties, and Transparency Division Web site at http://dpcld.defense.gov/.

The proposed systems reports, as required by 5 U.S.C. 552a(r) of the Privacy Act, as amended, were submitted on May 23, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: June 8, 2016.
Aaron Siegel,
Alternate OSD Federal Register Liaison Officer, Department of Defense.

A0381-20 DAMI

System name:

Badge and Credential Files (February 22, 1993, 58 FR 10002)

Changes:

* * * * *

System name:

Delete entry and replace with “Counterintelligence (CI) Badge and Credentials (B&Cs) Files.”

System location:

Delete entry and replace with “Headquarters, U.S. Army Intelligence Center of Excellence, ATTN: IATD (Badge and Credentials), Room 1279, Building 51005, 2520 Healy Street, Fort Huachuca, AZ 85613-7050.”

Category of individuals covered by the system:

Delete entry and replace with “U.S. Army military service members (active duty, reservist, or National Guard) and Department of the Army civilian employees, who currently possess, or previously possessed Counterintelligence (CI) Badge and Credential (B&Cs) or Representative Credentials (Rep Creds).”

Categories of records in the system:

Delete entry and replace with “Full name (last, first, middle, suffix), Social Security Number (SSN), date of birth, grade, issue status, accountable unit, badge number and/or intelligence credential number.”

Authority for maintenance of the system:

Delete entry and replace with “10 U.S.C. 3013, Secretary of the Army; E.O. 12333, U.S. Intelligence Activities, 2.3—Collection of Information; Department of Defense Instruction 5240.25, Counterintelligence Badges and Credentials; Army Regulation 381-20, Army Counterintelligence Program; and E.O. 9397 (SSN), as amended.”

Purpose:

Delete entry and replace with “To maintain control and accountability over CI B&Cs and Rep Creds issued.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

Information may be disclosed to Federal investigative and/or intelligence agencies to ascertain if a U.S. Army military service member (active duty, reservist, or National Guard) or Army civilian employee legally possesses or possessed CI B&Cs or Rep Creds.

DoD Blanket Routine Uses set forth at the beginning of the Army compilation of system of records notices may apply to this system. The complete list of DoD Blanket Routine Uses can be found online at: http://dpcld.defense.gov/Privacy/SORNsIndex/BlanketRoutineUses.aspx.”

Policies and practices for storing, retrieving, accessing, retaining, and disposing of records in the system:

Storage:

Delete entry and replace with “Paper records and electronic storage media.”

Retrievability:

Delete entry and replace with “Name and/or SSN.”

Safeguards:

Delete entry and replace with “Records are maintained in a controlled facility. Physical entry is restricted by the use of locks, guards, and is accessible only to authorized personnel. Access to records is limited to person(s) with an official need to know who are responsible for servicing the record in performance of their official duties. Persons are properly screened and cleared for access. Access to electronic data is restricted by passwords. In addition, integrity of automated data is ensured by internal audit procedures, data base access accounting reports and controls to preclude unauthorized disclosure.”

Retention and disposal:

Delete entry and replace with “Keep in central filing area until no longer needed for conducting business, but not longer than 6 years after the event, then destroy by shredding and deleting.”

System manager(s) and address:

Delete entry and replace with “Chief, Counterintelligence Programs; HQ, USAICoE, ATTN: IATD Badge and Credentials, Room 1279, Building 51005, 2520 Healy Street, Fort Huachuca, AZ 85613-7050.”

Notification procedures:

Delete entry and replace with “Individuals seeking to determine whether information about themselves is contained in this system should address written inquiries to HQ, USAICoE, ATTN: IATD, Room 1279, Building 51005, 2520 Healy Street, Fort Huachuca, AZ 85613-7050.

Individual should provide full name and SSN.

In addition, the requester must provide a notarized statement or an unsworn declaration made in accordance with 28 U.S.C. 1746, in the following format:

If executed outside the United States: 'I declare (or certify, verify, or state) under penalty of perjury under the laws of the United States of America that the foregoing is true and correct. Executed on (date). (Signature).'

If executed within the United States, its territories, possessions, or commonwealths: 'I declare (or certify, verify, or state) under penalty of perjury that the foregoing is true and correct. Executed on (date). (Signature). '”

Record access procedures:

Delete entry and replace with “Individuals seeking access to information about themselves contained in this system should address written inquiries to the HQ, USAICoE, ATTN: IATD, Room 1279, Building 51005, 2520 Healy Street, Fort Huachuca, AZ 85613-7050.

Individual should provide full name and SSN.

In addition, the requester must provide a notarized statement or an unsworn declaration made in accordance with 28 U.S.C. 1746, in the following format:

If executed outside the United States: 'I declare (or certify, verify, or state) under penalty of perjury under the laws of the United States of America that the foregoing is true and correct. Executed on (date). (Signature).'

If executed within the United States, its territories, possessions, or commonwealths: 'I declare (or certify, verify, or state) under penalty of perjury that the foregoing is true and correct. Executed on (date). (Signature).'”

Contesting record procedures:

Delete entry and replace with “The Army's rules for accessing records and for contesting contents and appealing initial agency determinations are contained in 32 CFR part 505, The Army Privacy Program or may be obtained from the system manager.”

Record source categories:

Delete entry and replace with “From the individual and security records.”

* * * * *

[FR Doc. 2016-13858 Filed 6-10-16; 8:45 am]

BILLING CODE 3710-08-P